DEPARTMENT OF EDUCATION

National Assessment Governing Board; Meeting

AGENCY: National Assessment Governing Board, U.S. Department of Education.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than November 29, 2013. We will attempt to meet requests after this date but cannot guarantee availability of the requested accommodation. The meeting site is accessible to individuals with disabilities.

DATES: December 5-December 7, 2013.

Times

December 5: Committee Meetings

Executive Committee: Open Session: 4:30 p.m.-5:30 p.m.

December 6: Full Board and Committee Meetings

Full Board: Open Session: 8:30 a.m.-4:30 p.m.; Administrative Session: 4:30 p.m.-5:00 p.m.

Committee Meetings

Reporting and Dissemination Committee (R&D): Open Session: 10:00 a.m.-12:45 p.m.

Assessment Development Committee (ADC): Open Session: 10:00 a.m.-12:45 p.m.

Committee on Standards, Design and Methodology (COSDAM): Open Session: 10:00 a.m.-11:05 a.m.; Closed Session: 11:05 a.m.-11:45 p.m.; Open session: 11:45 p.m.-12:45 p.m.

December 7: Full Board and Committee Meetings

Nominations Committee: Closed Session: 7:30 a.m.-8:15 a.m.

Full Board: Closed Session: 8:30 a.m.-9:15 a.m.; Open Session: 9:30 a.m.-12:00 p.m.

Location

The Ritz-Carlton, Pentagon City, 1250 South Hayes Street, Arlington, VA 22202.

FOR FURTHER INFORMATION CONTACT: Munira Mwalimu, Executive Officer, National Assessment Governing Board, 800 North Capitol Street NW., Suite 825, Washington, DC 20002-4233, Telephone: (202) 357-6938.

SUPPLEMENTARY INFORMATION: The National Assessment Governing Board (Board) is established under section 302 of the National Assessment of Educational Progress Authorization Act.

The Board is established to formulate policy guidelines for the National Assessment of Educational Progress (NAEP). The Board's responsibilities include the following: Selecting subject areas to be assessed, developing assessment frameworks and specifications, developing appropriate student achievement levels for each grade and subject tested, developing standards and procedures for interstate and national comparisons, developing guidelines for reporting and disseminating results, and releasing initial NAEP results to the public.

On December 5, 2013, the Board's Executive Committee will convene in open session from 4:30 p.m. to 5:30 p.m.

On December 6, 2013, the full Board will meet in open session from 8:30 a.m. to 9:45 a.m., recess for Committee meetings from 10:00 a.m. to 12:45 p.m. and reconvene in open session from 1:00 p.m. to 4:30 p.m. From 4:30 p.m. to 5:00 p.m. there will be an administrative session in which the Board will receive OGC ethics training.

On December 6, 2013 from 8:30 a.m. to 9:45 a.m., the Board will review and approve the December 6-7, 2013 Board meeting agenda and meeting minutes from the August 2-3, 2013 Quarterly Board meeting. Thereafter, the Chairman will open the meeting and introduce new Board Member, Lucille Davy. The Oath of Office will be administered to four reappointed Board members and new member Lucille Davy, following which members will provide remarks.

This session will be followed by a report from the Executive Director of the Governing Board, and updates from the Commissioner of the National Center for Education Statistics (NCES) and the Director of the Institute of Education Sciences (IES). Thereafter, the Board will recess for Committee meetings from 10:00 a.m. to 12:45 p.m.

The Reporting and Dissemination Committee and the Assessment Development Committee will meet in open session from 10:00 a.m. to 12:45 p.m. The Committee on Standards, Design and Methodology (COSDAM) will meet in open session from 10:00 a.m. to 11:05 a.m., in closed session from 11:05 a.m. to 11:45 a.m., and thereafter in open session from 11:45 a.m. to 12:45 p.m.

During the closed session, COSDAM members will receive a briefing on statistical analyses of results from the 2013 NAEP Technology and Engineering Literacy (TEL) pilot assessment at grade 8. These data have not been released and therefore cannot be disclosed to the general public at this time. Premature disclosure of these secure data would significantly impede implementation of the NAEP program, and is therefore protected by exemption 9(B) of section 552b(c) of Title 5 U.S.C.

Following the Committee sessions, the full Board will convene from 1:00 p.m. to 1:45 p.m. to receive a briefing on using NAEP Data for Key Education Indicators. After this briefing from 2:00 p.m. to 3:00 p.m. the Board will welcome the Executive Director of the Council of Chief State School Officers (CCSSO) who will provide remarks. Thereafter the Governing Board/CCSSO Task Force will provide its annual briefing to the Board.

From 3:00 p.m. to 4:15 p.m. the Board will have a panel presentation on Assessing Learning and Innovation Skills. The Board's annual ethics briefing will be conducted in administrative session by the Office of General Counsel from 4:30 p.m. to 5:00 p.m. The December 6, 2013 Board meeting is scheduled to adjourn at 5:00 p.m.

On December 7, 2013, the Nominations Committee will meet in closed session from 7:30 a.m. to 8:15 a.m. to review nominees for five open positions, for terms beginning in October 2014. The positions are chief state school officer, 4th grade teacher, 8th grade teacher, secondary school principal, and general public representative. The Committee's discussions on Board nominations pertain solely to internal personnel rules and practices of an agency and information of a personal nature where disclosure would constitute an unwarranted invasion of personal privacy. As such, the discussions are protected by exemptions 2 and 6 of section 552b(c) of Title 5 of the United States Code.

On December 7, 2013, from 8:30 a.m. to 9:15 a.m. the full Board will receive a closed session briefing and will discuss the 2013 Reading and Mathematics Report Cards for the Trial Urban District Assessment (TUDA). The Board will receive an embargoed briefing on preliminary results which will include secure test items, embargoed assessment data, and results that cannot be discussed in an open meeting prior to their official approval and release. Premature disclosure of these results would significantly impede implementation of the NAEP assessment program, and is therefore protected by exemption 9(B) of section 552b(c) of Title 5 United States Code.

Following this briefing, the Board will meet in open session to receive an interactive Inside NAEP briefing from NAEP staff on new computer based reporting for 2013. The Board is scheduled to receive reports from the standing Committees and take action on Committee recommendations from 10:45 a.m. to 12:00 p.m. The December 7, 2013 meeting is scheduled to adjourn at 12:00 p.m.

A verbatim transcript of the meeting, consistent with the policy of section 5 U.S.C. 552b(c) will be available to the public within 14 days of the meeting. Records are kept of all Board proceedings and are available for public inspection at the U.S. Department of Education, National Assessment Governing Board, Suite #825, 800 North Capitol Street NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-866-512-1800; or in the Washington, DC, area at (202) 512-0000. Note: The official version of this document is the document published in the Federal Register. Free Internet access to the official edition of the Federal Register and the Code of Federal Regulations is available on GPO Access at: www.gpoaccess.gov/nara/index.html.

Cornelia S. Orr,
Deputy Executive Director, National Assessment Governing Board (NAGB), U.S. Department of Education.

[FR Doc. 2013-28555 Filed 11-27-13; 8:45 am]

BILLING CODE 4000-01-P